DEPARTMENT OF ENERGY

Federal Energy Regulatory Commission

Combined Notice of Filings #1

Take notice that the Commission received the following exempt wholesale generator filings:

Docket Numbers: EG18-53-000.

Applicants: Meadow Lake Wind Farm VI LLC.

Description: Notice of Self-Certification of Exempt Wholesale Generator Status of Meadow Lake Wind Farm VI LLC.

Filed Date: 3/14/18.

Accession Number: 20180314-5202.

Comments Due: 5 p.m. ET 4/4/18.

Docket Numbers: EG18-54-000.

Applicants: Prairie Queen Wind Farm LLC.

Description: Notice of Self-Certification of Exempt Wholesale Generator Status of Prairie Queen Wind Farm LLC.

Filed Date: 3/14/18.

Accession Number: 20180314-5207.

Comments Due: 5 p.m. ET 4/4/18.

Docket Numbers: EG18-55-000.

Applicants: Turtle Creek Wind Farm LLC.

Description: Notice of Self-Certification of Exempt Wholesale Generator Status of Turtle Creek Wind Farm LLC.

Filed Date: 3/14/18.

Accession Number: 20180314-5212.

Comments Due: 5 p.m. ET 4/4/18.

Take notice that the Commission received the following electric rate filings:

Docket Numbers: ER18-1059-000.

Applicants: Shiloh I Wind Project, LLC.

Description: Compliance filing: Compliance 2018 to be effective 5/14/2018.

Filed Date: 3/14/18.

Accession Number: 20180314-5163.

Comments Due: 5 p.m. ET 4/4/18.

Docket Numbers: ER18-1060-000.

Applicants: South Chestnut LLC.

Description: Compliance filing: Compliance 2018 to be effective 5/14/2018.

Filed Date: 3/14/18.

Accession Number: 20180314-5164.

Comments Due: 5 p.m. ET 4/4/18.

Docket Numbers: ER18-1061-000.

Applicants: Star Point Wind Project LLC.

Description: Compliance filing: Compliance 2018 to be effective 5/14/2018.

Filed Date: 3/14/18.

Accession Number: 20180314-5166.

Comments Due: 5 p.m. ET 4/4/18.

Docket Numbers: ER18-1062-000.

Applicants: Streator-Cayuga Ridge Wind Power LLC.

Description: Compliance filing: Compliance 2018 to be effective 5/14/2018.

Filed Date: 3/14/18.

Accession Number: 20180314-5167.

Comments Due: 5 p.m. ET 4/4/18.

Docket Numbers: ER18-1063-000.

Applicants: Trimont Wind I LLC.

Description: Compliance filing: Compliance 2018 to be effective 5/14/2018.

Filed Date: 3/14/18.

Accession Number: 20180314-5168.

Comments Due: 5 p.m. ET 4/4/18.

Docket Numbers: ER18-1064-000.

Applicants: Twin Buttes Wind LLC.

Description: Compliance filing: Compliance 2018 to be effective 5/14/2018.

Filed Date: 3/14/18.

Accession Number: 20180314-5169.

Comments Due: 5 p.m. ET 4/4/18.

Docket Numbers: ER18-1065-000.

Applicants: Casselman Windpower LLC.

Description: Compliance filing: Compliance 2018 to be effective 5/14/2018.

Filed Date: 3/14/18.

Accession Number: 20180314-5171.

Comments Due: 5 p.m. ET 4/4/18.

Docket Numbers: ER18-1066-000.

Applicants: Moraine Wind II LLC.

Description: Compliance filing: Compliance 2018 to be effective 5/14/2018.

Filed Date: 3/14/18.

Accession Number: 20180314-5173.

Comments Due: 5 p.m. ET 4/4/18.

Docket Numbers: ER18-1067-000.

Applicants: Elk River Windfarm, LLC.

Description: Compliance filing: Compliance 2018 to be effective 5/14/2018.

Filed Date: 3/14/18.

Accession Number: 20180314-5177.

Comments Due: 5 p.m. ET 4/4/18.

Docket Numbers: ER18-1068-000.

Applicants: Lyonsdale Biomass, LLC.

Description: § 205(d) Rate Filing: Market-Based Rate Tariff Revisions to be effective 3/15/2018.

Filed Date: 3/14/18.

Accession Number: 20180314-5179.

Comments Due: 5 p.m. ET 4/4/18.

Docket Numbers: ER18-1069-000.

Applicants: ReEnergy Ashland LLC.

Description: § 205(d) Rate Filing: Market-Based Rate Tariff Revisions to be effective 3/15/2018.

Filed Date: 3/14/18.

Accession Number: 20180314-5180.

Comments Due: 5 p.m. ET 4/4/18.

Docket Numbers: ER18-1070-000.

Applicants: ReEnergy Black River LLC.

Description: § 205(d) Rate Filing: Market-Based Rate Tariff Revisions to be effective 3/15/2018.

Filed Date: 3/14/18.

Accession Number: 20180314-5181.

Comments Due: 5 p.m. ET 4/4/18.

Docket Numbers: ER18-1071-000.

Applicants: ReEnergy Fort Fairfield LLC.

Description: § 205(d) Rate Filing: Market-Based Rate Tariff Revisions to be effective 3/15/2018.

Filed Date: 3/14/18.

Accession Number: 20180314-5182.

Comments Due: 5 p.m. ET 4/4/18.

Docket Numbers: ER18-1072-000.

Applicants: MinnDakota Wind LLC.

Description: Compliance filing: Compliance 2018 to be effective 5/14/2018.

Filed Date: 3/14/18.

Accession Number: 20180314-5184.

Comments Due: 5 p.m. ET 4/4/18.

Docket Numbers: ER18-1073-000.

Applicants: ReEnergy Livermore Falls LLC.

Description: § 205(d) Rate Filing: Market-Based Rate Tariff Revisions to be effective 3/15/2018.

Filed Date: 3/14/18.

Accession Number: 20180314-5188.

Comments Due: 5 p.m. ET 4/4/18.

Docket Numbers: ER18-1074-000.

Applicants: ReEnergy Stratton LLC.

Description: § 205(d) Rate Filing: Market-Based Rate Tariff Revisions to be effective 3/15/2018.

Filed Date: 3/14/18.

Accession Number: 20180314-5190.

Comments Due: 5 p.m. ET 4/4/18.

Docket Numbers: ER18-1075-000.

Applicants: Public Service Company of New Mexico.

Description: § 205(d) Rate Filing: eTariff Administrative Filing of OATT Revisions to be effective 11/1/2013.

Filed Date: 3/14/18.

Accession Number: 20180314-5196.

Comments Due: 5 p.m. ET 4/4/18.

Docket Numbers: ER18-1076-000.

Applicants: GASNA 6P, LLC.

Description: Baseline eTariff Filing: GASNA 6P, LLC MBR Tariff to be effective 3/15/2018.

Filed Date: 3/14/18.

Accession Number: 20180314-5200.

Comments Due: 5 p.m. ET 4/4/18.

Docket Numbers: ER18-1077-000.

Applicants: GASNA 36P, LLC.

Description: Baseline eTariff Filing: GASNA 36P, LLC MBR Tariff to be effective 3/15/2018.

Filed Date: 3/14/18.

Accession Number: 20180314-5201.

Comments Due: 5 p.m. ET 4/4/18.

Docket Numbers: ER18-1078-000.

Applicants: Southwest Power Pool, Inc.

Description: § 205(d) Rate Filing: Revisions to Require Phasor Measuring Units at New Generator Interconnections to be effective 5/13/2018.

Filed Date: 3/14/18.

Accession Number: 20180314-5205.

Comments Due: 5 p.m. ET 4/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2018.
Nathaniel J. Davis, Sr.,
Deputy Secretary.

[FR Doc. 2018-05671 Filed 3-20-18; 8:45 am]

BILLING CODE 6717-01-P